DEPARTMENT OF VETERANS AFFAIRS

[OMB Control No. 2900-New (VA Form 10-0487)]

Proposed Information Collection (Six-Month Post-Exit Focus Interview of Former VHA Employees) Activities; Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden; it includes the actual data collection instrument.

DATES: Comments must be submitted on or before September 9, 2010.

ADDRESSES: Submit written comments on the collection of information through www.Regulations.gov; or to VA's OMB Desk Officer, OMB Human Resources and Housing Branch, New Executive Office Building, Room 10235, Washington, DC 20503 (202) 395-7316. Please refer to “OMB Control No. 2900-New (VA Form 10-0487)” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-New (VA Form 10-0487).”

SUPPLEMENTARY INFORMATION: Title: Six-Month Post-Exit Focus Interview of Former VHA Employees, VA Form 10-0487.

OMB Control Number: 2900-New (VA Form 10-0487).

Type of Review: New collection.

Abstract: VHA will survey former employees as to why they decided to leave the Agency. The data collected will be used to develop strategic objectives that will increase workforce recruitment and retention throughout VHA, training programs and tests were approved, disapproved or suspended.

An agency may not conduct or sponsor, and a person is not required to respond to a collection of information unless it displays a currently valid OMB control number. The Federal Register Notice with a 60-day comment period soliciting comments on this collection of information was published on June 2, 2010, at pages 30914-30915.

Affected Public: Individuals or Households.

Estimated Annual Burden: 375.

Estimated Average Burden per Respondent: 15 minutes.

Frequency of Response: One-time.

Estimated Number of Respondents: 1,500.

Dated: August 5, 2010.
By direction of the Secretary:
Denise McLamb,
Program Analyst, Enterprise Records Service.

[FR Doc. 2010-19648 Filed 8-9-10; 8:45 am]

BILLING CODE 8320-01-P